DEPARTMENT OF EDUCATION

Office of Postsecondary Education

International Research and Studies Program; Notice Inviting Application for New Awards for Fiscal Year (FY) 2005

AGENCY: Department of Education.

ACTION: Correction.

SUMMARY: On September 23, 2004, a notice inviting applications for new awards under the Office of Postsecondary Education; International Research and Studies Program was published in the Federal Register (69 FR 57011 through 57014). Under Application and Submission Information on page 57012, in column 2, “Page Limit” section, second sentence, we included the incorrect page limit. The second sentence of the “Page Limit” section reads “You must limit the narrative to the equivalent of 25 pages using the following standards”. This notice will correct that sentence to read, “You must limit the narrative to the equivalent of 30 pages using the following standards”.

FOR FURTHER INFORMATION CONTACT: Mr. Jose L. Martinez, U.S. Department of Education, 1990 K Street, NW., Room 6010, Washington, DC 20006-8521. Telephone: (202) 502-7635 or by e-mail: jose.martinez@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

Other Information

Electronic Access to This Document: You may view this document, as well as all other documents of this Department published in the Federal Register, in text or Abobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Sally L. Stroup,
Assistant Secretary for Postsecondary Education.

[FR Doc. 04-23687 Filed 10-21-04; 8:45 am]

BILLING CODE 4000-01-M